DEPARTMENT OF THE TREASURY

Office of Foreign Assets Control

Unblocking of Specially Designated National Pursuant to Executive Order 13315, as Amended by Executive Order 13350

AGENCY: Office of Foreign Assets Control, Treasury.

ACTION: Notice.

SUMMARY: The Treasury Department's Office of Foreign Assets Control (“OFAC”) is publishing the name of an individual whose property and interests in property have been unblocked pursuant to Executive Order 13315 of August 28, 2003, Blocking Property of the Former Iraqi Regime, Its Senior Officials and Their Family Members, and Taking Certain Other Actions, as amended by Executive Order 13350 of July 29, 2004, Termination of Emergency Declared in Executive Order12722 With Respect to Iraq and Modification of Executive Order 13290, Executive Order 13303, and Executive Order 13315.

DATES: The unblocking and removal from the list of Specially Designated Nationals of the individual identified in this notice whose property and interests in property were blocked pursuant to Executive Order 13315 of August 28, 2003, as amended by Executive Order 13350 of July 29, 2004, is effective on June 30, 2008.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available from OFAC's Web site (http://www.treas.gov/ofac) via facsimile through a 24-hour fax-on demand service, tel.: (202) 622-0077.

Background

On August 28, 2003, the President, invoking the authority, inter alia, of the International Emergency Economic Powers Act (50 U.S.C. 1701-1706) (“IEEPA”), issued Executive Order 13315 (68 FR 52315, September 3, 2003). Section 1 of Executive Order 13315 blocks, with certain exceptions, all property and interests in property that are in the United States, or that hereafter come within the United States or that are or hereafter come within the possession or control of United States persons, of: (1) The persons listed in the Annex to Executive Order 13315; (2) any person determined by the Secretary of Treasury, in consultation with the Secretary of State, (a) to be senior officials of the former Iraqi regime or their immediate family members; or (b) to be owned or controlled by, or acting or purporting to act for or on behalf of, directly or indirectly, any of the persons listed in the Annex to Executive Order 13315 or determined to be subject to Executive Order 13315.

On July 29, 2004, the President, acting under the authority of, inter alia, IEEPA, issued Executive Order 13350 (69 FR 46053, July 30, 2004). Executive Order 13350 terminated the national emergency with respect to Iraq declared in Executive Order 12722 and revoked Executive Order 12722 and all other executive orders based on that national emergency. It also took additional steps in response to the national emergency declared in Executive Order 13303 and expanded in Executive Order 13315, relating to obstacles to the orderly reconstruction of Iraq, the restoration and maintenance of peace and security in that country, and the development of political, administrative, and economic institutions in Iraq. More specifically, Executive Order 13350 replaced the Annex to Executive Order 13315 with a new annex that included the names of certain individuals and entities that had previously been designated under Executive Order 12722 and related authorities.

On June 30, 2008, the Director of OFAC removed from the list of Specially Designated Nationals the individual listed below, whose property and interests in property were blocked pursuant to Executive Order 13315, as amended by Executive Order 13350.

The listing of the unblocked individual follows:

NESSI, Ferruccio, Piazza Grande 26, 6600, Locarno, Switzerland (individual) [IRAQ2].

Dated: June 30, 2008.
Adam J. Szubin,
Director, Office of Foreign Assets Control.

[FR Doc. E8-15942 Filed 7-11-08; 8:45 am]

BILLING CODE 4811-45-P